DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Request for Loan Information Verification.

Type of Information Collection: Revision of a currently approved collection.

OMB Number: 1660-0012.

Abstract: The Individuals and Households Program (IHP) uses mobile homes, travel trailers, and other forms of prefabricated housing to provide temporary housing assistance to victims of federally declared disasters. Victims who express interest in purchasing a mobile home at an adjusted sales price must complete FEMA Form 90-68. The form is used by FEMA to obtain information from lenders. The information is required to determine a fair and equitable sales price of a mobile home to disaster victims.

Affected Public: Individuals or households, and Business or other for-profit, Not-for-profit institutions.

Number of Respondents: 125 Applicants and 250 lenders.

Estimated Time per Respondent: 5 minutes for Applicants and 5 minutes for lenders.

Estimated Total Annual Burden Hours: 42 hours.

Frequency of Response: On Occasion.

Comments: Interested persons are invited to submit written comments on the proposed information collection to e-mail address ahunt@omb.eop.gov or facsimile number (202) 395-7285 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or e-mail address InformationCollections@fema.gov.

Dated: November 28, 2003.
Muriel B. Anderson,
Acting Division Director, Information Resources Management Division, Information Technology Services Directorate.

[FR Doc. 03-30290 Filed 12-4-03; 8:45 am]

BILLING CODE 9110-10-P